DEPARTMENT OF COMMERCE

International Trade Administration

[A-570-979]

Crystalline Silicon Photovoltaic Cells, Whether or Not Assembled Into Modules, From the People's Republic of China: Preliminary Results of Antidumping Duty Administrative Review, Partial Rescission of Antidumping Administrative Review, and Preliminary Determination of No Shipments; 2018-2019

AGENCY: Enforcement and Compliance, International Trade Administration, Department of Commerce.

SUMMARY: The Department of Commerce (Commerce) preliminarily determines that the certain companies under review sold subject merchandise at less than normal value during the period of review (POR), December 1, 2018, through November 30, 2019 and that certain other companies under review did not ship subject merchandise to the United States during the POR. Additionally, Commerce is rescinding this review with respect to three companies. Interested parties are invited to comment on these preliminary results of review.

DATES: Applicable April 22, 2021.

FOR FURTHER INFORMATION CONTACT: Jeff Pedersen or Aleksandras Nakutis, AD/CVD Operations, Office IV, Enforcement and Compliance, International Trade Administration, Department of Commerce, 1401 Constitution Avenue NW, Washington, DC 20230; telephone: (202) 482-2769 or (202) 482-3147, respectively.

SUPPLEMENTARY INFORMATION:

Background

On February 6, 2020, in response to review requests from multiple parties, Commerce initiated an administrative review of the antidumping duty order on crystalline silicon photovoltaic cells, whether or not assembled into modules (solar cells), from the People's Republic of China (China).¹ The POR is December 1, 2018, through November 30, 2019. On April 24, 2020 and July 21, 2020, Commerce tolled all deadlines in administrative reviews by 50 days and 60 days respectively, thereby extending the deadline for these preliminary results of review until December 21, 2020.² On December 17, 2020, and again on March 9, 2021, Commerce extended the time limit for completing the preliminary results of this review.³ The deadline for issuing the preliminary results of this review is April 16, 2021.

¹ See Initiation of Antidumping and Countervailing Duty Administrative Reviews, 85 FR 6896 (February 6, 2020) (Initiation Notice).

² See Memorandum, “Tolling of Deadlines for Antidumping and Countervailing Duty Administrative Reviews in Response to Operational Adjustments Due to COVID-19,” dated April 24, 2020; and Memorandum, “Tolling of Deadlines for Antidumping and Countervailing Duty Administrative Reviews,” dated July 21, 2020.

³ See Memorandum, “2018-2019 Antidumping Duty Administrative Review of Crystalline Silicon Photovoltaic Cells, Whether or Not Assembled into Modules, from the People's Republic of China: Extension of Deadline for Preliminary Results of Antidumping Duty Administrative Review,” dated December 17, 2020; and Memorandum, “2018-2019 Antidumping Duty Administrative Review of Crystalline Silicon Photovoltaic Cells, Whether or Not Assembled into Modules, from the People's Republic of China: Extension of Deadline for Preliminary Results of Antidumping Duty Administrative Review,” dated March 9, 2021.

On April 29, 2020, Commerce selected two exporters to individually examine as mandatory respondents,⁴ Jinko ⁵ and Risen.⁶ During the course of this review, the mandatory respondents filed responses to Commerce's questionnaire and supplemental questionnaires, the petitioner (SunPower Manufacturing Oregon, LLC) commented on those responses, and multiple other companies for which Commerce initiated the review filed either no-shipment claims or applications or certifications for separate rates status. For details regarding the events that occurred subsequent to the initiation of the review, see the Preliminary Decision Memorandum.⁴

⁴ See Memorandum, “2018-2019 Antidumping Duty Administrative Review of Crystalline Silicon Photovoltaic Cells, Whether or Not Assembled Into Modules, from the People's Republic of China: Respondent Selection,” dated April 29, 2020.

⁵ Jinko refers to the following companies which Commerce is treating as a single entity: Jinko Solar Import and Export Co., Ltd.; Jinko Solar Co., Ltd; JinkoSolar Technology (Haining) Co., Ltd.; Yuhuan Jinko Solar Co., Ltd; Zhejiang Jinko Solar Co., Ltd. (Zhejiang Jinko); and Jiangsu Jinko Tiansheng Solar Co., Ltd. (Jiangsu Jinko) (collectively, Jinko).

⁶ Risen refers to the following companies which Commerce is treating as a single entity: Risen Energy Co. Ltd., Risen (Wuhai) New Energy Co., Ltd., Zhejiang Twinsel Electronic Technology Co., Ltd., Risen (Luoyang) New Energy Co., Ltd., Jiujiang Shengchao Xinye Technology Co., Ltd., Jiujiang Shengzhao Xinye Trade Co., Ltd., Ruichang Branch, Risen Energy (HongKong) Co., Ltd., Risen Energy (Changzhou) Co., Ltd. (Changzhou) and Risen Energy (YIWU) Co., Ltd. (collectively, Risen).

Scope of the Order

The merchandise covered by the order is crystalline silicon photovoltaic cells, and modules, laminates, and panels, consisting of crystalline silicon photovoltaic cells, whether or not partially or fully assembled into other products, including, but not limited to, modules, laminates, panels and building integrated materials.⁷ Merchandise covered by this order is classifiable under subheadings 8501.61.0010, 8507.20.80, 8541.40.6015, 8541.40.6025, and 8501.31.8010 of the Harmonized Tariff Schedule of the United States (HTSUS). Although the HTSUS subheadings are provided for convenience and customs purposes, our written description of the scope of the order is dispositive.

⁷ For a complete description of the scope of the order, see Memorandum “Decision Memorandum for the Preliminary Results of the 2018-2019 Antidumping Duty Administrative Review of Crystalline Silicon Photovoltaic Cells, Whether or not Assembled into Modules, from the People's Republic of China,” issued concurrently with and hereby adopted by this notice (Preliminary Decision Memorandum).

Preliminary Determination of No Shipments

We found no evidence calling into question the no shipment claims of the following companies/company groupings: (1) BYD (Shangluo) Industrial Co., Ltd., (2) Changzhou Trina Solar Energy Co., Ltd., Trina Solar (Changzhou) Science and Technology Co., Ltd., Yancheng Trina Solar Energy Technology Co., Ltd., Changzhou Trina Solar Yabang Energy Co., Ltd., Turpan Trina Solar Energy Co., Ltd., Hubei Trina Solar Energy Co., Ltd., Trina Solar (Hefei) Science and Technology Co., Ltd., and (3) Shanghai BYD Co., Ltd. We also found that Wuxi Suntech Power Co., Ltd/Luoyang Suntech Power Co., Ltd. did not ship subject merchandise to the United States during the POR. For additional information regarding these preliminary determinations, see the Preliminary Decision Memorandum.

Partial Rescission of Administrative Review

Pursuant to 19 CFR 351.213(d)(1), Commerce will rescind an administrative review, in whole or in part, if all parties that requested a review withdraw their requests within 90 days of the publication date of the notice of initiation of the requested review. All parties withdrew their requests for an administrative review of JA Solar Technology Yangzhou Co., Ltd., JingAo Solar Co., Ltd., and Shanghai JA Solar Technology Co., Ltd. within 90 days of the date of publication of the Initiation Notice. Accordingly, Commerce is rescinding this review with respect to these companies, in accordance with 19 CFR 351.213(d)(1).

Preliminary Affiliation and Single Entity Determination

We have determined that Jinko Solar Co., Ltd (Jiangxi Jinko); JinkoSolar Technology (Haining) Co., Ltd. (Haining Jinko); Yuhuan Jinko Solar Co., Ltd. (Yuhuan Jinko); Zhejiang Jinko Solar Co., Ltd (Zhejiang Jinko); and Jiangsu Jinko Tiansheng Solar Co., Ltd. (Jiangsu Jinko) and Jinko Solar Import and Export Co., Ltd. (Jinko IE) (collectively, Jinko), are affiliated pursuant to section 771(33)(F) of the Tariff Act of 1930, as amended (the Act), and that all of these companies should be treated as a single entity pursuant to 19 CFR 351.401(f)(1)-(2). For additional information, see the Preliminary Decision Memorandum and Jinko Collapsing Memorandum.⁸

⁸ Our affiliation and collapsing analysis is based on information that has been designated business proprietary information. For additional details, see Memorandum, “Antidumping Duty Administrative Review of Crystalline Silicon Photovoltaic Cells, Whether or not Assembled into Modules, from the People's Republic of China: Affiliation and Collapsing Memorandum for Jinko Solar Import and Export Co., Ltd.,” issued concurrently with this notice.

Also, we have determined that the single entity—Risen Energy Co. Ltd., Risen (Wuhai) New Energy Co., Ltd., Zhejiang Twinsel Electronic Technology Co., Ltd., Risen (Luoyang) New Energy Co., Ltd., Jiujiang Shengchao Xinye Technology Co., Ltd., Jiujiang Shengzhao Xinye Trade Co., Ltd., Ruichang Branch, Risen Energy (HongKong) Co., Ltd., Risen Energy (Changzhou) Co., Ltd. (Changzhou) is affiliated with Risen Energy (YIWU) Co., Ltd., pursuant to section 771(33)(E) of the Act and that all of these companies should be treated as a single entity pursuant to 19 CFR 351.401(f)(1)-(2). For additional information, see the Preliminary Decision Memorandum.

Separate Rates

We have preliminarily determined that the information placed on the record by Jinko and Risen, as well as by the other companies listed in the rate table in the “Preliminary Results of Review” section below, demonstrates that these companies are entitled to separate rate status.

We have preliminarily determined that the companies listed in Appendix II have not demonstrated their entitlement to separate rates status because they did not file a separate rate application or certification with Commerce. We are treating the companies listed in Appendix II as part of the China-wide entity. Because no party requested a review of the China-wide entity, the entity is not under review and the entity's rate (i.e., 238.95 percent) is not subject to change.⁹ In addition, because we determined that Wuxi Suntech Power Co., Ltd/Luoyang Suntech Power Co., Ltd. did not ship subject merchandise to the United States during the POR, we have not considered its separate rate application. For additional information regarding Commerce's preliminary separate rates determinations, see the Preliminary Decision Memorandum.

⁹ The China-wide entity rate was last changed in the first administrative review of this proceeding and has been the applicable rate for the entity in each subsequent review, including the one most recently completed review. See Crystalline Silicon Photovoltaic Cells, Whether or Not Assembled Into Modules, from the People's Republic of China: Final Results of Antidumping Duty Administrative Review and Final Determination of No Shipments; 2012-2013, 80 FR 40998, 41002 (July 14, 2015) (AR1 Final); see also Crystalline Silicon Photovoltaic Cells, Whether or Not Assembled Into Modules, from the People's Republic of China: Final Results of Antidumping Duty Administrative Review and Final Determination of No Shipments; 2017-2018, 85 FR 62275 (October 2, 2020).

Dumping Margins for Separate Rate Companies

The statute and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review. Section 735(c)(5)(A) of the Act states that the all-others rate should be calculated by averaging the weighted-average dumping margins for individually-examined respondents, excluding rates that are zero, de minimis, or based entirely on facts available. Where the rates for the individually for the individually examined companies are all zero, de minimis, or based entirely on facts available, section 735(c)(5)(B) of the Act provides that Commerce may use “any reasonable method” to establish the all-others rate. We preliminary assigned the respondents not selected for individual examination to which we granted a separate rate the dumping margin calculated for Jinko.

Methodology

Commerce is conducting this administrative review in accordance with section 751(a)(1)(B) of the Act. Commerce calculated export and constructed export prices in accordance with section 772 of the Act. Because Commerce has determined that China is a non-market economy country,¹⁰ within the meaning of section 771(18) of the Act, Commerce calculated normal value in accordance with section 773(c) of the Act.

¹⁰ See Antidumping Duty Investigation of Certain Aluminum Foil from the People's Republic of China: Affirmative Preliminary Determination of Sales at Less-Than-Fair Value and Postponement of Final Determination, 82 FR 50858, 50861 (November 2, 2017) (citing Memorandum, “China's Status as a Non-Market Economy,” dated October 26, 2017 (China NME Status Memo)), unchanged in Certain Aluminum Foil from the People's Republic of China: Final Determination of Sales at Less Than Fair Value, 83 FR 9282 (March 5, 2018).

For a full description of the methodology underlying the preliminary results of this review, see the Preliminary Decision Memorandum. The Preliminary Decision Memorandum is a public document and is made available to the public via Enforcement and Compliance's Antidumping and Countervailing Duty Centralized Electronic Service System (ACCESS). ACCESS is available to registered users at https://access.trade.gov. In addition, a complete version of the Preliminary Decision Memorandum can be found at https://enforcement.trade.gov/frn/. The signed and the electronic versions of the Preliminary Decision Memorandum are identical in content.

Preliminary Results of Review

We are assigning the following dumping margins to the firms listed below for the period December 1, 2019, through November 30, 2019:

Exporter | Weighted- average dumping margin (percent)
Jinko Solar Import and Export Co., Ltd./Jinko Solar Co., Ltd./JinkoSolar Technology (Haining) Co., Ltd./Yuhuan Jinko Solar Co., Ltd./Zhejiang Jinko Solar Co., Ltd./Jiangsu Jinko Tiansheng Solar Co., Ltd | 13.89
Risen Energy Co. Ltd., Risen (Wuhai) New Energy Co., Ltd., Zhejiang Twinsel Electronic Technology Co., Ltd., Risen (Luoyang) New Energy Co., Ltd., Jiujiang Shengchao Xinye Technology Co., Ltd., Jiujiang Shengzhao Xinye Trade Co., Ltd., Ruichang Branch, Risen Energy (HongKong) Co., Ltd., Risen Energy (Changzhou) Co., Ltd. (Changzhou) and Risen Energy (YIWU) Co., Ltd | 0.00
Review-Specific Average Rate Applicable to the Following Companies:
Anji DaSol Solar Energy Science & Technology Co., Ltd | 13.89
Canadian Solar International Limited, Canadian Solar Manufacturing (Changshu), Inc., Canadian Solar Manufacturing (Luoyang)Inc., CSI Cells Co., Ltd., CSI-GCL Solar Manufacturing (YanCheng) Co., Ltd., CSI Solar Power (China) Inc | 13.89
Chint Solar (Zhejiang) Co., Ltd., Chint Energy (Haining) Co., Ltd., Chint Solar (Jiuquan) Co., Ltd., Chint Solar (Hong Kong) Company Limited | 13.89
LONGi Solar Technology Co., Ltd | 13.89
Shenzhen Sungold Solar Co., Ltd | 13.89
Shenzhen Topray Solar Co., Ltd | 13.89
Wuxi Tianran Photovoltaic Co., Ltd | 13.89
Yingli Energy (China) Company Limited, Baoding Tianwei Yingli New Energy Resources Co., Ltd., Tianjin Yingli New Energy Resources Co., Ltd., Hengshui Yingli New Energy Resources Co., Ltd., Lixian Yingli New Energy Resources Co., Ltd., Baoding Jiasheng Photovoltaic Technology Co., Ltd., Beijing Tianneng Yingli New Energy Resources Co., Ltd., Hainan Yingli New Energy Resources Co., Ltd., Shenzhen Yingli New Energy Resources Co., Ltd | 13.89
Zhejiang Aiko Solar Energy Technology Co., Ltd | 13.89

Disclosure and Public Comment

Commerce intends to disclose to parties to the proceeding the calculations performed for these preliminary results of review within five days of the date of publication of this notice in the Federal Register in accordance with 19 CFR 351.224(b). Interested parties may submit case briefs no later than 30 days after the date of publication of these preliminary results of review in the Federal Register.¹¹ Rebuttal briefs may be filed no later than seven days after case briefs are due and may respond only to arguments raised in the case briefs.¹² A table of contents, list of authorities used, and an executive summary of issues should accompany any briefs submitted to Commerce. The summary should be limited to five pages total, including footnotes.¹³

¹¹ See 19 CFR 351.309(c)(ii).

¹² See 19 CFR 351.309(d).

¹³ See 19 CFR 351.309(c)(2), (d)(2).

Interested parties who wish to request a hearing must submit a written request to the Assistant Secretary for Enforcement and Compliance, U.S. Department of Commerce, within 30 days after the date of publication of this notice in the Federal Register.¹⁴ Requests should contain the party's name, address, and telephone number, the number of individuals from the requesting party's firm that will attend the hearing, and a list of the issues the party intends to discuss at the hearing. Oral arguments at the hearing will be limited to issues raised in the briefs. If a request for a hearing is made, Commerce intends to hold the hearing at a date and time to be determined.¹⁵ Parties should confirm by telephone the date and time of the hearing two days before the scheduled date of the hearing.

¹⁴ See 19 CFR 351.310(c).

¹⁵ See 19 CFR 351.310(d).

All submissions, with limited exceptions, must be filed electronically using ACCESS.¹⁶ An electronically filed document must be received successfully in its entirety by Commerce's electronic records system, ACCESS, by 5 p.m. Eastern Time (ET) on the due date.¹⁷ Note that Commerce has temporarily modified certain of its requirements for serving documents containing business proprietary information until further notice.¹⁸ Unless otherwise extended, Commerce intends to issue the final results of this administrative review, which will include the results of its analysis of issues raised in any briefs, within 120 days of publication of these preliminary results of review in the Federal Register, pursuant to section 751(a)(3)(A) of the Act.

¹⁶ See generally 19 CFR 351.303.

¹⁷ See 19 CFR 351.303 (for general filing requirements); Antidumping and Countervailing Duty Proceedings: Electronic Filing Procedures; Administrative Protective Order Procedures, 76 FR 39263 (July 6, 2011).

¹⁸ See Temporary Rule Modifying AD/CVD Service Requirements Due to COVID-19; Extension of Effective Period, 85 FR 29615 (May 18, 2020); and Temporary Rule Modifying AD/CVD Service Requirements Due to COVID-19; Extension of Effective Period, 85 FR 41363 (July 10, 2020).

Assessment Rates

Upon issuance of the final results of this review, Commerce will determine, and U.S. Customs and Border Protection (CBP) shall assess, antidumping duties on all appropriate entries covered by this review.¹⁹ Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

¹⁹ See 19 CFR 351.212(b)(1).

For each individually examined respondent in this review whose weighted-average dumping margin in the final results of review is not zero or de minimis (i.e., less than 0.5 percent), Commerce intends to calculate importer/customer-specific assessment rates, in accordance with 19 CFR 351.212(b)(1).²⁰ Where the respondent reported reliable entered values, Commerce intends to calculate importer/customer-specific ad valorem assessment rates by aggregating the amount of dumping calculated for all U.S. sales to the importer/customer and dividing this amount by the total entered value of the merchandise sold to the importer/customer.²¹ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²² Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.²³

²⁰ See Antidumping Proceedings: Calculation of the Weighted Average Dumping Margin and Assessment Rate in Certain Antidumping Proceedings: Final Modification, 77 FR 8101 (February 14, 2012) (Final Modification).

²¹ See 19 CFR 351.212(b)(1).

²² Id.

²³ See Final Modification, 77 FR at 8103.

For the respondents that were not selected for individual examination in this administrative review, but which qualified for a separate rate, the assessment rate will be based on the weighted-average dumping margin(s) assigned to the respondent(s), as appropriate, in the final results of this review.²⁴

²⁴ See Drawn Stainless Steel Sinks from the People's Republic of China: Preliminary Results of the Antidumping Duty Administrative Review and Preliminary Determination of No Shipments: 2014-2015, 81 FR 29528 (May 12, 2016), and accompanying IDM at 10-11, unchanged in Drawn Stainless Steel Sinks from the People's Republic of China: Final Results of Antidumping Duty Administrative Review; Final Determination of No Shipments; 2014-2015, 81 FR 54042 (August 15, 2016).

Pursuant to Commerce's refinement to its practice, for sales that were not reported in the U.S. sales database submitted by an exporter individually examined during this review, Commerce will instruct CBP to liquidate the entry of such merchandise at the dumping margin for the China-wide entity.²⁵ Additionally, where Commerce determines that an exporter under review had no shipments of subject merchandise to the United States during the POR, any suspended entries of subject merchandise that entered under that exporter's CBP case number during the POR will be liquidated at the dumping margin for the China-wide entity.

²⁵ See Non-Market Economy Antidumping Proceedings: Assessment of Antidumping Duties, 76 FR 65694 (October 24, 2011), for a full discussion of this practice.

In accordance with section 751(a)(2)(C) of the Act, the final results of this review shall be the basis for the assessment of antidumping duties on entries of merchandise covered by the final results of this review and for future deposits of estimated antidumping duties, where applicable.

Cash Deposit Requirements

Commerce will instruct CBP to require a cash deposit for antidumping duties equal to the weighted-average amount by which the normal value exceeds U.S. price. The following cash deposit requirements will be effective for shipments of the subject merchandise from China entered, or withdrawn from warehouse, for consumption on or after the publication date of this notice in the Federal Register, as provided by section 751(a)(2)(C) of the Act: (1) For the exporters listed in the table above, the cash deposit rate will be equal to the weighted-average dumping margin established in the final results of this review for the exporter (except, if the dumping margin is de minimis (i.e., less than 0.5 percent), then the cash deposit rate will be zero for that exporter); (2) for previously investigated or reviewed Chinese and non-Chinese exporters that are not listed in the table above but that have separate rates, the cash deposit rate will continue to be the exporter-specific rate established in the most recently completed segment of this proceeding; (3) for all Chinese exporters of subject merchandise which have not been found to be entitled to a separate rate, the cash deposit rate will be the rate for the China-wide entity (i.e., 238.95 percent) ²⁶ and (4) for all non-Chinese exporters of subject merchandise that have not received their own rate, the cash deposit rate will be the rate applicable to the China exporter that supplied that non-Chinese exporter. These deposit requirements, when imposed, shall remain in effect until further notice.

²⁶ See AR1 Final, 80 FR at 41002.

Notification to Importers

This notice also serves as a preliminary reminder to importers of their responsibility under 19 CFR 351.402(f)(2) to file a certificate regarding the reimbursement of antidumping duties and/or countervailing duties prior to liquidation of the relevant entries during this POR. Failure to comply with this requirement could result in Commerce's presumption that reimbursement of antidumping duties and/or countervailing duties has occurred, and the subsequent assessment of double antidumping duties and/or an increase in the amount of antidumping duties by the amount of the countervailing duties.

Notification to Interested Parties

We are issuing and publishing these results in accordance with sections 751(a)(1) and 777(i)(1) of the Act and 19 CFR 351.213 and 351.221(b)(4).

Dated: April 16, 2021.
Christian Marsh,
Acting Assistant Secretary for Enforcement and Compliance.

Appendix I

List of Sections in the Preliminary Decision Memorandum

I. Summary

II. Background

III. Scope of the Order

IV. Partial Rescission of Administrative Review

V. Preliminary Determination of No Shipments

VI. Selection of Respondents

VII. Single Entity Treatment

VIII. Discussion of the Methodology

IX. Recommendation

Appendix II

Companies Preliminarily Determined To Be Part of the China-Wide Entity

1. De-Tech Trading Limited HK

2. Dongguan Sunworth Solar Energy Co., Ltd.

3. Eoplly New Energy Technology Co., Ltd.

4. ERA Solar Co., Ltd.

5. ET Solar Energy Limited

6. Hangzhou Sunny Energy Science & Technology Co., Ltd.

7. Hengdian Group DMEGC Magnetics Co., Ltd.

8. Jiangsu High Hope Int'l Group

9. Jiawei Solarchina (Shenzhen) Co., Ltd.

10. Jiawei Solarchina Co., Ltd.

11. JinkoSolar International Ltd.²⁷

²⁷ Jinko, the owner of JinkoSolar International Ltd., stated that it was closed prior to the POR. See Jinko's Letter, “Jinko Supplemental Section A Questionnaire Response in the Seventh Administrative Review of the Antidumping Duty Order on Crystalline Silicon Photovoltaic Cells, Whether or Not Assembled into Modules, from the People's Republic of China (A-570-979),” dated March 4, 2021.

12. LERRI Solar Technology Co., Ltd.

13. Lightway Green New Energy Co., Ltd.

14. Ningbo ETDZ Holdings, Ltd.

15. Ningbo Qixin Solar Electrical Appliance Co., Ltd.

16. Sumec Hardware & Tools Co., Ltd.

17. Sunpreme Solar Technology (Jiaxing) Co., Ltd.

18. Systemes Versilis, Inc.

19. Taizhou BD Trade Co., Ltd.

20. tenKsolar (Shanghai) Co., Ltd.

21. Tianneng Yingli New Energy Resources Co., Ltd.

22. Toenergy Technology Hangzhou Co., Ltd.

23. Yingli Green Energy International Trading Company Limited

24. Zhejiang ERA Solar Technology Co., Ltd.

25. Zhejiang Sunflower Light Energy Science & Technology Limited Liability Company

[FR Doc. 2021-08363 Filed 4-21-21; 8:45 am]

BILLING CODE 3510-DS-P